NUCLEAR REGULATORY COMMISSION

Bulletin 2004-01 Inspection of Alloy 82/182/600 Materials Used in the Fabrication of Pressurizer Penetrations and Steam Space Piping Connections at Pressurized-Water Reactors (PWRs); Notice of Availability

AGENCY: U.S. Nuclear Regulatory Commission.

ACTION: Notice of issuance.

SUMMARY: The Nuclear Regulatory Commission (NRC) has issued NRC Bulletin 2004-01 to all holders of operating licenses for PWRs except those who have permanently ceased operations and have certified that fuel has been permanently removed from the reactor pressure vessel. The NRC is issuing this bulletin to:

(1) Advise PWR licensees that current methods of inspecting Alloy 82/182/600 materials used in the fabrication of pressurizer penetrations and steam space piping connections may need to be supplemented with additional measures to detect and adequately characterize flaws due to primary water stress corrosion cracking,

(2) Request PWR addressees to provide the NRC with information related to the materials from which the pressurizer penetrations and steam space piping connections at their facilities were fabricated,

(3) Request PWR licensees to provide the NRC with information related to the inspections that have been and those that will be performed to ensure that degradation of Alloy 82/182/600 materials used in the fabrication of pressurizer penetrations and steam space piping connections will be identified, adequately characterized, and repaired, and

(4) Require PWR addresses to provide a written response to the NRC in accordance with the provisions of Section 50.54(f) of Title 10 of the Code of Federal Regulations (10 CFR 50.54(f)).

DATES: The bulletin was issued on May 28, 2004.

ADDRESSEES: Not applicable.

FOR FURTHER INFORMATION CONTACT: Timothy G. Colburn at 301-415-1402, E-mail tgc@nrc.gov or Matthew A. Mitchell at 301-415-3303, E-mail: mam4@nrc.gov.

SUPPLEMENTARY INFORMATION: NRC Bulletin 2004-01 may be examined and/or copied for a fee at the NRC's Public Document Room, located at One White Flint North Public File area, 1 F21, 11555 Rockville Pike (first floor), Rockville, Maryland. Publically available records are accessible electronically from the Agencywide Documents Access and Management Systems (ADAMS) Public Electronic Reading Room on the Internet at the NRC Web site, http://www.nrc.gov/reading-rm/adams.html. The ADAMS Accession No. for the bulletin is ML041480034.

Persons who do not have access to ADAMS or who encounter problems in accessing the documents located in ADAMS, should contact the NRC Public Document Room (PDR) Reference staff by telephone at 301-415-4737 or 1-800-397-4209, or by e-mail to pdr@nrc.gov.

Dated at Rockville, Maryland, this 3rd day of June 2004.
For the Nuclear Regulatory Commission.
William Beckner,
Chief, Reactor Operations Branch, Division of Inspection Program Management, Office of Nuclear Reactor Regulation.

[FR Doc. 04-13254 Filed 6-10-04; 8:45 am]

BILLING CODE 7590-01-P